DEPARTMENT OF AGRICULTURE

Forest Service

Big Hole Timber Sale; Caribou-Targhee National Forest, Teton County, ID

AGENCY: Forest Service, USDA.

ACTION: Notice of intent to prepare environmental impact statement.

SUMMARY: The U.S. Department of Agriculture, Forest Service will prepare an environmental impact statement (EIS) to document the analysis and disclose the environmental impacts of a proposed timber sale and road reconstruction on the east side of the Big Hole Mountains.

The Teton Basin Ranger District is proposing to cut timber and reconstruct five roads on the east side of the Big Hole Mountain. A portion of this proposal is in the Garns Mountain Roadless Area. The proposed timber sale would remove small diameter and disease infested Douglas fir, lodgepole pine and subalpine fir in areas north of Packsaddle Creek, and between Henderson and Grove Creeks. Conifers would be removed from aspen and mature aspen would be cut to regenerate seedlings. This would be done to decrease fuel loads, provide products to the public and increase resiliency across the forested vegetation. Road reconstruction would occur on Forest classified roads 508, 543, 544, 546 and 237. This would reduce impacts of roads to streams and fisheries.

DATES: Written comments concerning the scope of the analysis described in this analysis should be received by September 17, 2001.

ADDRESSES: Send written comments to Teton Basin Ranger District, Attn: Liz Davy, P.O. Box 777, Driggs, ID 83422.

FOR FURTHER INFORMATION CONTACT: Questions concerning the proposed action and EIS should be directed to Liz Davy, Teton Basin Ranger District, Caribou-Targhee National Forest, phone: (208) 354-2312.

SUPPLEMENTARY INFORMATION: A watershed analysis determined desired future conditions (DFC) for forested vegetation and roads. The DFC for forested vegetation is to maintain conifers within seral stages of 20 percent seedling/sapling/grass and 80 percent young to old forest. Aspen would be maintained with a diversity of age classes at levels of 10 to 30 percent seedling/sapling/brush, 10 to 30 percent young vegetation, 20 to 40 percent mature forest and 20 to 40 percent old forest. Currently seral stages of conifers are 3 percent seedling and 97 percent young to old forest. Aspen's current seral stages are 1 percent seedling and 99 percent mature to old forest. This proposal would move the trend in forested vegetation closer to DFC.

The DFC for roads is to minimize requirements for maintenance and construction. Re-engineering the five roads would allow for future maintenance and decrease sediment input to cutthroat trout streams.

The decision to be made is whether to cut the timber and if so, where and under what conditions. The decision would also consider whether to reconstruct the classified roads. Public scoping will be completed through letters and news releases.

Preliminary issues identified are:

(1) Impacts of road reconstruction and timber cutting on roadless characteristics.

(2) Impacts on wildlife in the timber sale areas.

(3) Impacts on water quality and fisheries in the timber sale areas.

(4) The effects on threatened, endangered and sensitive species from removing mature forest vegetation and reconstructing roads.

(5) The effects on old growth from removal of mature timber.

Other issues may be identified during the scooping period. Written suggestions and comments are invited on the issues related to the proposal and the area being analyzed. Information received will be used in the preparation of the Draft EIS and Final EIS. For most effective use, comments should be submitted to the Forest Service within 45 days from the date of publication of this notice in the Federal Register.

The Forest Service is the lead agency. The Forest Service estimates the draft EIS will be filed in May 2002 and the final EIS will be filed in September 2002. The Responsible Official is Jerry B. Reese, Forest Supervisor, Caribou-Targhee National Forest.

Comments received in response to this solicitation, including names and addresses of those who comment, will be considered part of the public record on this proposed action and will be available for public inspection. Comments submitted anonymously will be accepted and considered: however, those who submit anonymous comments will not have standing to appeal the subsequent decision under 36 CFR parts 215 or 217. Additionally, pursuant to 7 CFR 1.27 (d), any person may request the agency to withhold a submission from the public record by showing how the Freedom of Information Act (FOIA) permits such confidentiality. Persons requesting such confidentiality should be aware that under the FOIA, confidentiality may be granted in only very limited circumstances such as to protect trade secrets. The Forest Service will inform the requester of the agency's decision regarding the request for confidentiality, and where the request is denied, the agency will return the submission and notify the requester that the comments may be resubmitted with or without name and address within 10 days.

The comment period on the draft environmental impact statement will be 45 days from the date the Environmental Protection Agency's notice of availability appears in the Federal Register. It is very important that those interested in this proposed action participate at this time. To be most helpful, comments on the draft environmental impact statement should be as specific as possible and may address the adequacy of the statement or the merits of the alternatives discussed. (See the Council on Environmental Quality Regulations for implementing the procedural provisions of the National Environmental Policy Act at 40 CFR 1503.3).

In addition, Federal court decisions have established that reviews of draft environmental impact statements must structure their participation in the environmental review of the proposal so that it is meaningful and alerts an agency to the reviewers' position and contentions. Vermont Yankee Nuclear Power Corp. v. NRDC, 435 U.S. 519, 553 (1978). Environmental objections that could have been raised at the draft stage may be waived if not raised until after completion of the final environmental impact statement. City of Angoon v. Hodel, (9th Circuit, 1986) and Wisconsin Heritages, Inc. v. Harris, 490 F. Supp. 1334, 1338 (E.D. Wis. 1980). The reason for this is to ensure that substantive comments and objections area made available to the Forest Service at a time when it can meaningfully consider them and respond to them in the final.

Dated: July 23, 2001.
Jerry B. Reese,
Forest Supervisor.

[FR Doc. 01-19152 Filed 7-31-01; 8:45 am]

BILLING CODE 3410-11-M